DEPARTMENT OF DEFENSE

Department of the Navy

Notice of Availability of Government-Owned Inventions; Available for Licensing

AGENCY: Department of the Navy, DoD.

ACTION: Notice.

SUMMARY: The inventions listed below are assigned to the United States Government as represented by the Secretary of the Navy and is available for licensing by the Department of the Navy.

U.S. Patent number 6,317,694 entitled “Method and Apparatus for Selecting a Sand Pack Mesh for a Filter Pack and a Well Casing Slot size for a Well.” U.S. Patent number 6,305,878 entitled “Adjustable Depth Air Sparging Well.” U.S. Patent number 6,644,230 entitled “Locking Marine Bitt.”

ADDRESSES: Requests for copies of the patent applications cited should be directed to Kurt Buehler, NFESC, Code 423, 1100 23rd Ave, Port Hueneme, CA 93043-4370, and must include the U.S. Patent number.

FOR FURTHER INFORMATION CONTACT: Kurt Buehler, Office of Research and Technology Applications, NFESC, Code 423, 1100 23rd Ave, Port Hueneme, CA, 93043-4370, telephone 805-982-4897.

(Authority: 35 U.S.C. 207, 37 CFR Part 404.)

Dated: March 25, 2005.
I. C. Le Moyne Jr.,
Lieutenant, Judge Advocate General's Corps, U.S. Navy, Alternate Federal Register Liaison Officer.

[FR Doc. 05-6452 Filed 3-31-05; 8:45 am]

BILLING CODE 3810-FF-P